Title 3—

The President

Proclamation 7796 of June 12, 2004

Flag Day and National Flag Week, 2004

By the President of the United States of America

A Proclamation

For more than 200 years, the American flag has served as a symbol of our country's enduring freedom and unity. Old Glory has welcomed generations of immigrants to America's shores and is displayed proudly on homes, at schools, and over businesses across our country. During times of war, our flag has rallied our citizens to defend the blessings of liberty at home and abroad. It has accompanied our troops into battle and been given to grieving families at the grave sites of fallen heroes. Today, as our brave men and women in uniform fight terrorism and advance freedom, the flag inspires patriotism and pride across our Nation and around the world.

Each year on June 14, we honor the American flag and recall the adoption of our first official national flag by the Continental Congress in 1777. The first Flag Day observances began quietly in the 19th century as State and local celebrations recognizing the anniversary of the Stars and Stripes. Inspired by these patriotic gatherings, President Woodrow Wilson established the first national observance by proclamation in 1916. To commemorate the adoption of our flag, the Congress, by joint resolution approved August 3, 1949, as amended (63 Stat. 492), designated June 14 of each year as “Flag Day” and requested that the President issue an annual proclamation calling for its observance and for the display of the Flag of the United States on all Federal Government buildings. The Congress also requested, by joint resolution approved June 9, 1966, as amended (80 Stat. 194), that the President issue annually a proclamation designating the week in which June 14 occurs as “National Flag Week” and calling upon all citizens of the United States to display the flag during that week.

NOW, THEREFORE, I, GEORGE W. BUSH, President of the United States of America, do hereby proclaim June 14, 2004, as Flag Day and the week beginning June 13, 2004, as National Flag Week. I direct the appropriate officials to display the flag on all Federal Government buildings during that week, and I urge all Americans to observe Flag Day and National Flag Week by flying the Stars and Stripes from their homes and other suitable places. I also call upon the people of the United States to observe with pride and all due ceremony those days from Flag Day through Independence Day, also set aside by the Congress (89 Stat. 211), as a time to honor America, to celebrate our heritage in public gatherings and activities, and to publicly recite the Pledge of Allegiance to the Flag of the United States of America.

IN WITNESS WHEREOF, I have hereunto set my hand this twelfth day of June, in the year of our Lord two thousand four, and of the Independence of the United States of America the two hundred and twenty-eighth.

B

[FR Doc. 04-13748

Filed 6-15-04; 9:14 am]

Billing code 3195-01-P